DEPARTMENT OF TRANSPORTATION

Federal Aviation Administration

Notice of Availability of the Final Programmatic Environmental Assessment and Mitigated Finding of No Significant Impact and Record of Decision for Drone Package Delivery in North Carolina

AGENCY: Federal Aviation Administration, DOT.

ACTION: Notice of availability.

SUMMARY: The Federal Aviation Administration (FAA) announces the availability of the Final Programmatic Environmental Assessment (PEA) and Mitigated Finding of No Significant Impact and Record of Decision (FONSI/ROD) for Drone Package Delivery in North Carolina.

FOR FURTHER INFORMATION CONTACT: For questions concerning this action, contact Nicholas Baker, Environmental Protection Specialist, Unmanned Aircraft Systems Integration Office, Safety & Integration Division, Strategic Programs Branch, AUS-430; telephone 1-202-267-4714; email 9-FAA-Drone-Environmental@faa.gov.

SUPPLEMENTARY INFORMATION: The Final PEA evaluates the potential environmental impacts of Unmanned Aircraft Systems (UAS) package delivery operations in the state of North Carolina. The proposed action analyzed in the PEA is UAS operators conducting commercial drone package deliveries under 14 Code of Federal Regulations (CFR) part 135 in North Carolina. The North Carolina Department of Transportation is the project proponent.

The Draft PEA was submitted for review pursuant to the National Environmental Policy Act (NEPA) (42 United States Code [U.S.C.] 4321 et seq.), the Council on Environmental Quality NEPA Implementing Regulations (40 CFR parts 1500-1508), FAA Order 1050.1F, Environmental Impacts: Policies and Procedures, Section 4(f) of the Department of Transportation Act (49 U.S.C. 303), and section 106 of the National Historic Preservation Act (16 U.S.C. 470) on April 30, 2024. The FAA held a virtual public meeting for the Draft PEA on May 21, 2024. The comment period for the Draft PEA closed on May 30, 2024. The Final PEA includes public comments received during the public comment period and the FAA's responses.

The Final PEA and Mitigated FONSI/ROD are available to view and download electronically at https://www.faa.gov/uas/advanced_operations/nepa_and_drones/. The documentation is available from any internet access, including from computers freely available at public libraries.

Based on the analysis in the Final PEA, including mitigation measures that may be used to prevent significant noise impacts, the FAA has determined there will not be significant impacts to the human environment. As a result, an Environmental Impact Statement has not been initiated. The FAA intends for this PEA to create efficiencies by establishing a framework that can be used for “tiering,” when appropriate, to project-specific actions that require additional analysis. As decisions on specific applications are made, to the extent additional NEPA analysis is required, environmental review will be conducted to supplement the analysis set forth in this PEA.

Issued in Washington, DC, on July 16, 2024.
Derek W. Hufty,
Manager, General Aviation and Commercial Branch, Emerging Technologies Division, Office of Safety Standards, Flight Standards Service.

[FR Doc. 2024-15948 Filed 7-18-24; 8:45 am]

BILLING CODE 4910-13-P